DEPARTMENT OF THE TREASURY

Office of Thrift Supervision

[AC-3: OTS Nos. 02461 and H-3365]

FloridaFirst Bancorp, Lakeland, Florida; Approval of Conversion Application

Notice is hereby given that on November 3, 2000, the Managing Director, Office of Supervision, Office of Thrift Supervision, or his designee, acting pursuant to delegated authority, approved the application of FloridaFirst Bank, Lakeland, Florida, to convert to the stock form of organization. Copies of the application are available for inspection at the Dissemination Branch, Office of Thrift Supervision, 1700 G Street, NW, Washington, DC 20552, and the Southeast Regional Office, Office of Thrift Supervision, 1475 Peachtree Street, NE, Atlanta, GA 30309.

Dated: November 7, 2000.
By the Office of Thrift Supervision.
Nadine Y. Washington,
Corporate Secretary.

[FR Doc. 00-28980 Filed 11-9-00; 8:45 am]

BILLING CODE 6720-01-M